DEPARTMENT OF JUSTICE

Antitrust Division

Notice Pursuant to the National Cooperative Research and Production Act of 1993_Management Service Providers Association, Inc.

Notice is hereby given that, on May 3, 2002, pursuant to Section 6(a) of the National Cooperative Research and Production Act of 1993, 15 U.S.C. 4301 et seq. (“the Act”), Management Service Providers Association, Inc. has filed written notification simultaneously with the Attorney General and the Federal Trade Commission disclosing changes in its membership status. The notifications were filed for the purpose of extending the Act's provisions limiting the recovery of antitrust plaintiffs to actual damages under specified circumstances. Specifically, Geotrust, Wellesley, MA; Newtwork Guidance, Minnetonka, MN and Trilogy CSI Pty, LTD, Rosebery, New South Wales, AUSTRALIA have been added as parties to this venture; and NetEffect Corp, Atlanta, GA; Aprisma Management Technologies, Durham, NH; and Applicant, Seattle, WA have been dropped as parties to this venture. Also, Redklay, Ann Arbor, MI has changed its name to Fullscope and Nuclio, Chantilly, VA has changed its name to Sevenspace/Nuclio.

No other changes have been made in either the membership or planned activity of the group research project. Membership in this group research project remains open, and Management Service Providers Association, Inc. intends to file additional written notification disclosing all changes in membership.

On October 20, 2000, Management Service Providers Association, Inc. filed its original notification pursuant to Section 6(a) of the Act. The Department of Justice published a notice in the Federal Register pursuant to Section 6(b) of the Act on November 24, 2000 (65 FR 70613).

The last notification was filed with the Department on February 11, 2002. A notice was published in the Federal Register pursuant to section 6(b) of the Act on March 27, 2002 (67 FR 14730).

Constance K. Robinson,
Director of Operations, Antitrust Division.

[FR Doc. 02-15325 Filed 6-17-02; 8:45 am]

BILLING CODE 4410-11-M